DEPARTMENT OF COMMERCE

International Trade Administration

[A-570-601]

Tapered Roller Bearings and Parts Thereof, Finished and Unfinished, From the People's Republic of China: Final Determination of No Shipments in the Antidumping Duty Administrative Review; 2022-2023

AGENCY: Enforcement and Compliance, International Trade Administration, Department of Commerce.

SUMMARY: The U.S. Department of Commerce (Commerce) determines that Shanghai Tainai Bearing Co., Ltd. (Tainai) made no shipments of the subject merchandise during the period of review (POR) June 1, 2022, through May 31, 2023.

DATES: Applicable August 20, 2024.

FOR FURTHER INFORMATION CONTACT: Jerry Xiao, AD/CVD Operations, Office II, Enforcement and Compliance, International Trade Administration, U.S. Department of Commerce, 1401 Constitution Avenue NW, Washington, DC 20230; telephone: (202) 482-2273.

SUPPLEMENTARY INFORMATION:

Background

On May 2, 2024 Commerce published in the Federal Register the Preliminary Results of the 2022-2023 administrative review ¹ of the antidumping duty on tapered toller bearings and parts thereof, finished and unfinished (TRBs) from the People's Republic of China (China).² We invited interested parties to comment on the Preliminary Results.³ No interested party submitted comments. Accordingly, we made no changes to the Preliminary Results. On July 22, 2024, Commerce tolled certain deadlines in this administrative proceeding by seven days. The deadline for the final results is now September 6, 2024.⁴

¹ See Tapered Roller Bearings and Parts Thereof, Finished and Unfinished, from the People's Republic of China: Preliminary Determination of No Shipments and Rescission of Antidumping Duty Administrative Review, in Part; 2022-2023, 89 FR 35792 (May 2, 2024) (Preliminary Results).

² See Tapered Roller Bearings from the People's Republic of China; Amendment to Final Determination of Sales at Less Than Fair Value and Antidumping Duty Order in Accordance with Decision Upon Remand, 55 FR 6669 (February 26, 1990) (Order).

³ See Preliminary Results.

⁴ See Memorandum, “Tolling of Deadlines for Antidumping and Countervailing Duty Proceedings,” dated July 22, 2024.

Scope of the Order

The products subject to the order are TRBs. For a complete description of the scope of the order, see the Preliminary Results.⁵

⁵ See Preliminary Results, 89 FR at 35793.

Final Determination of No Shipments

In the Preliminary Results, Commerce determined that Tainai had no shipments of TRBs during the POR, based on Tainai's timely submitted no-shipment certification and our analysis of information from U.S. Customs and Border Protection (CBP).⁶ We received no comments with respect to our preliminary finding. Therefore, for these final results, we continue to determine that Tainai had no shipments of subject merchandise during the POR.

⁶ See Tainai's Letter, “No Shipment Certification,” dated August 24, 2023; see also Memorandum “No Shipment Inquiry for Shanghai Tainai Bearings Co., Ltd. (A-570-601) during the period 06/01/2022 through 05/31/2023,” dated October 18, 2023.

Assessment Rates

Commerce shall determine, and CBP shall assess, antidumping duties on all appropriate entries in accordance with section 751(a)(2)(C) of the Tariff Act of 1930, as amended (the Act), and 19 CFR 351.212(b). As Commerce continues to find that Tainai did not have any shipments of subject merchandise during the POR, we will instruct CBP to assess any suspended entries of subject merchandise associated with Tainai at the China-wide rate (i.e., 92.84 percent).

Commerce intends to issue assessment instructions to CBP no earlier than 35 days after the date of publication of these final results of review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the publication date of the final results of this administrative review, as provided by section 751(a)(2)(C) of the Act: (1) for previously investigated or reviewed Chinese and non-Chinese exporters for which a review was not requested and that received a separate rate in a prior segment of this proceeding, the cash deposit rate will continue to be the existing exporter-specific rate published for the most recently-completed period; (2) for all Chinese exporters of subject merchandise that have not been found to be entitled to a separate rate, the cash deposit rate will be the rate for the China-wide entity; and (3) for all non-Chinese exporters of subject merchandise that have not received their own rate, the cash deposit rate will be the rate applicable to the Chinese exporter that supplied that non-Chinese exporter. These deposit requirements, when imposed, shall remain in effect until further notice.

Notification to Importers

This notice also serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation subject to sanction.

Notification to Interested Parties

We are issuing and publishing this notice in accordance with sections 751(a)(1) and 777(i)(1) of the Act, and 19 CFR 351.221(b)(5).

Dated: August 14, 2024.
Abdelali Elouaradia,
Deputy Assistant Secretary for Enforcement and Compliance.

[FR Doc. 2024-18657 Filed 8-19-24; 8:45 am]

BILLING CODE 3510-DS-P